DEPARTMENT OF TRANSPORTATION

Federal Motor Carrier Safety Administration

[Docket No. FMCSA-2006-26367]

Motor Carrier Safety Advisory Committee Public Meeting

AGENCY: Federal Motor Carrier Safety Administration, DOT.

ACTION: Notice of Motor Carrier Safety Advisory Committee Meeting.

SUMMARY: FMCSA announces that the Agency's Motor Carrier Safety Advisory Committee (MCSAC) will hold a committee meeting from Monday, December 6 through Wednesday, December 8, 2010. The meeting will be open to the public for its duration.

Time and Dates: The meeting will be held on Monday and Tuesday, December 6-7, 2010, from 8:30 a.m. to 4 p.m., Eastern Standard Time (E.S.T.), and on Wednesday, December 8, from 8:30 a.m. to 2 p.m., E.S.T. The last hour of each day will be reserved for public comment.

Matters to be Considered: The MCSAC will complete action on Task 10-02, regarding Fatigue Management Plans for Commercial Motor Vehicle Drivers. Additionally, the MCSAC will commence work on Task 11-01, regarding Patterns of Safety Violations by Motor Carrier Management.

FOR FURTHER INFORMATION CONTACT: Ms. Shannon L. Watson, Senior Management Analyst, Strategic Planning and Program Evaluation Division, Office of Policy Plans and Regulation, Federal Motor Carrier Safety Administration, U.S. Department of Transportation, 1200 New Jersey Avenue, SE., Washington, DC 20590, (202) 385-2395, mcsac@dot.gov.

SUPPLEMENTARY INFORMATION:

I. Background

MCSAC

Section 4144 of the Safe, Accountable, Flexible, Efficient Transportation Equity Act: A Legacy for Users (SAFETEA-LU) (Pub. L. 109-59, 119 Stat. 1144, August 10, 2005) required the Secretary of Transportation to establish a Motor Carrier Safety Advisory Committee. The committee provides advice and recommendations to the FMCSA Administrator on motor carrier safety programs and regulations, and operates in accordance with the Federal Advisory Committee Act (5 U.S.C. App 2).

Patterns of Safety Violations Task

SAFETEA-LU Section 4133 allows the Secretary to suspend, amend, or revoke any part of a motor carrier's registration if the Secretary finds that an officer of a motor carrier engages, or has engaged, in a pattern or practice of avoiding compliance, or masking or otherwise concealing noncompliance, with the Federal Motor Carrier Safety Regulations and Hazardous Materials Regulations, while serving as an officer of any motor carrier. The section defines an officer as “an owner, director, chief executive officer, chief financial officer, safety director, vehicle maintenance supervisor, and driver supervisor of a motor carrier, regardless of title attached to these functions, and any person, however designated, exercising controlling influence over the operations of a motor carrier.”

Following presentations from experts on this issue and the deliberations of the Committee, the MCSAC will submit written recommendations in the form of a report to the FMCSA Administrator on this topic following its March 2011 meeting.

II. Meeting Participation

Oral comments from the public will be heard during the last hour of each day of this meeting. Members of the public may submit written comments on this topic by Wednesday, December 1, 2010, to Federal Docket Management System (FDMC) Docket Number FMCSA-2006-26367 using any of the following methods:

• Federal eRulemaking Portal: Go to http://www.regulations.gov. Follow the online instructions for submitting comments.

• Fax: 202-493-2251.

• Mail: Docket Management Facility; U.S. Department of Transportation, 1200 New Jersey Avenue, SE., West Building, Room WI2-140, Washington, DC 20590.

• Hand Delivery: U.S. Department of Transportation, 1200 New Jersey Avenue, SE., Room WI2-140, Washington, DC, between 9 a.m. and 5 p.m., Monday through Friday, except Federal holidays.

Issued on: November 22, 2010.
Larry W. Minor,
Associate Administrator for Policy.

[FR Doc. 2010-29767 Filed 11-24-10; 8:45 am]

BILLING CODE 4910-EX-P